FEDERAL TRADE COMMISSION

Privacy Act of 1974; System of Records Notices

AGENCY: Federal Trade Commission (FTC).

ACTION: Notice of revised Privacy Act system notices.

SUMMARY: The FTC is revising several of the notices that it is required to publish under the Privacy Act of 1974 to describe its systems of records about individuals. This action is intended to make these notices clearer, more accurate, and up-to-date.

DATES: This notice shall become final and effective on August 27, 2010.

FOR FURTHER INFORMATION CONTACT: Alex Tang, G. Richard Gold, or Lorielle L. Pankey, Attorneys, Office of the General Counsel, FTC, 600 Pennsylvania Avenue, NW., Washington, DC 20580, (202) 326-2424.

SUPPLEMENTARY INFORMATION: To inform the public, the FTC publishes in the FEDERAL REGISTER and posts on its Web site a “system of records notice” (SORN) for each system of records about individuals that the FTC currently maintains within the meaning of the Privacy Act of 1974, as amended, 5 U.S.C. 552a. See (http://www.ftc.gov/foia/listofpaysystems.shtm). Each SORN describes the records maintained in that particular system, including the categories of individuals that the records in the system are about (e.g., FTC employees or consumers). Each system notice also contains information explaining how individuals can find out if that particular system contains any records about them.

On June 12, 2008, the FTC republished and updated all of the FTC’s SORNs, describing all of the agency’s systems of records covered by the Privacy Act in a single document for ease of use and reference. 73 FR 33592. To ensure the SORNs remain accurate, FTC staff engages in a comprehensive review of each SORN on a periodic basis. As a result of this systematic review, the FTC made revisions to several of its SORNs on April 17, 2009. 74 FR 17863. Based on subsequent review, the FTC is making the following revisions to several of its SORNs.¹

¹ The FTC is clarifying but not adding or changing any routine uses of its system records or making other significant system changes that would require prior public comment or notice to the Office of Management & Budget (OMB) and Congress. See U.S.C. 552a(e)(11) and 552a(r); OMB Circular A-130, Appendix I.

I. FTC Law Enforcement Systems of Records

FTC-I-1 (Nonpublic Investigational and Other Nonpublic Legal Program Records—FTC). This SORN includes nonpublic investigational and other nonpublic program records. We have added language clarifying that certain debt collection-related records contained within this system are also legally part of the Government-wide system of records notice published for this system by the Department of Treasury, Financial Management System. See TREASURY/FMS.014, or any successor TREASURY/FMS system notice at (http://www.ustreas.gov) for more information. Therefore, these types of records also have the same purposes and routine uses as set forth in the Government-wide SORN.

II. FTC Personnel Systems of Records

FTC-II-6 (Discrimination Complaint System—FTC). This SORN covers complaints, affidavits, supporting documents, memoranda, correspondence, and notes relevant to and compiled during pre-complaint matters, complaint investigations and other personnel matters at the FTC. We are revising the purpose section of this SORN in order to more fully describe the various issues that give rise to discrimination complaints.

FTC-II-7 (Ethics Program Records-FTC). This SORN covers annual financial statements and other filings or requests made by FTC officials and employees under the FTC’s ethics program. The FTC is including an additional means of disposing of these records.

FTC-II-12 (Training Reservation System-FTC). This SORN covers records used in the employee training program administered by the FTC’s Human Resources Management Office. The FTC is changing the name of this system and revising the categories of records, purpose, and retrievability sections. We are also clarifying that this system is legally part of the OPM’s Government-wide system of records notice for this system, OPM/GOVT-1, which covers all official personnel training data; hence, it is subject to the same purposes and routine uses set forth for that system by OPM. See OPM/GOVT-1, or any successor OPM system notice that may be published for this system (visit (www.opm.gov) for more information). There are also some minor editorial changes.

III. FTC Financial Systems of Records

FTC-III-2 (Travel Management System-FTC). This SORN covers travel documentation for FTC employees and other authorized individuals on official travel for the FTC. To the extent these travel data are collected and maintained by the FTC’s travel management contractor, they are already covered by a Government-wide General Services Administration (GSA) SORN, GSA/GOVT-4 (Contracted Travel Services Program). See 71 FR 48764 (2006). Nonetheless, the FTC maintains this SORN to include those data as well as any other miscellaneous data that various FTC offices may collect and maintain in a system of records about individuals on official travel for the FTC. The FTC is revising the Category of Records section to implement Department of Homeland Security (DHS) Secure Flight requirements to include an individual traveler’s date of birth and sex; that the name of the traveler within this system matches the name shown on a government issued-identification (for example, driver’s license or passport) while traveling; and an optional field for redress numbers (i.e., complaint or inquiry numbers). Under Secure Flight (http://www.tsa.gov/what_we_do/layers/secureflight/), a program developed by DHS in response to a key 9/11 Commission recommendation, DHS’ Transportation Security Administration conducts uniform pre-screening of passenger information against federal government watch lists for domestic and international flights.

FTC Systems of Records Notices

Accordingly, the FTC revises and updates the Privacy Act systems of records below as follows:

I. FTC Law Enforcement Systems of Records

FTC-I-1

SYSTEM NAME:

Nonpublic Investigational and Other Nonpublic Legal Program Records—FTC.

CATEGORIES OF RECORDS IN THE SYSTEM:

Records maintained in this system include information about individuals such as name, address, employment status, age, date of birth, financial information, credit information, social security number and personal history. Records in this system are collected and generated during law enforcement investigations and litigation and may include: copies of subpoenas and other compulsory process issued during the investigation; documents and records (including copies) obtained during the investigation in response to subpoenas and other compulsory process, or otherwise provided to the Commission; affidavits and other statements from witnesses; transcripts of testimony taken in the investigation and accompanying exhibits; internal staff memoranda; interview notes, investigative notes, staff working papers, draft materials, and other documents and records relating to the investigation; correspondence; and internal status reports including matter initiation reports, progress reports, and closing reports. Records in this system may also include other investigatory information or data relating to any of the following: docketed and consent matters; redress distribution proceedings; rulemakings, workshops, and other public proceedings, including comments or other materials submitted in such proceedings; assurances of voluntary compliance; and advisory opinions. Other types of records covered by this system are set out in the Department of Treasury, Financial Management Service’s Privacy Act system of records notice TREASURY/FMS.014, or any successor system notice for this system (visit (http://www.ustreas.gov) for more information).

This system is limited to files and records that are about an individual, and only when the file or record is pulled (“retrieved”) by the name of that individual or other personal identifier (e.g., number, symbol, fingerprint, etc.). As described below, records in this system may become public if they are subject to such disclosure under the FTC’s Rules of Practice.

ROUTINE USES OF RECORDS MAINTAINED IN THE SYSTEM, INCLUDING CATEGORIES OF USERS AND THE PURPOSES OF SUCH USES:

(5) Miscellaneous Uses

(e) To be disclosed for any other routine use set forth in the Government-wide system of records notice published for this system by the Department of Treasury, Financial Management System, see TREASURY/FMS.014, or any successor TREASURY/FMS system notice that may be published for this system (visit (http://www.ustreas.gov) for more information).

II. FTC Law Personnel Systems of Records

FTC-II-6

SYSTEM NAME:

Discrimination Complaint System-FTC.

PURPOSE(S):

To assist in the consideration given to reviews of potential or alleged violations of equal employment opportunity (EEO) statutes and regulations and to maintain records on pre-complaint and complaint matters relating to those issues; for the purpose of counseling, investigating, and adjudicating such complaints; to resolve issues related to alleged discrimination because of race, color, religion, sex, national origin, age, physical or mental disability, sexual orientation, or status as a parent in connection with EEO matters; to make reports to Office of Management and Budget, Merit Systems Protection Board, and Equal Employment Opportunity Commission. (This system corresponds to EEOC/GOVT-1, Equal Employment Opportunity in the Federal Government Complaint and Appeal Records.)

FTC-II-7

SYSTEM NAME:

Ethics Program Records-FTC.

RETENTION AND DISPOSAL:

In accordance with the National Archives and Records Administration General Records Schedules for ethics program records, these records are generally retained for a period of six years after filing, or for such other period of time as is provided for in that schedule for certain specified types of ethics records. In cases where records are filed by, or with respect to, a nominee for an appointment requiring confirmation by the Senate when the nominee is not appointed and Presidential and Vice-Presidential candidates who are not elected, the records are generally destroyed one year after the date the individual ceased being under Senate consideration for appointment or is no longer a candidate for office. However, if any records are needed in an ongoing investigation, they will be retained until no longer needed in the investigation. Destruction is by shredding, use of burn bags, or electronic deletion.

FTC-II-12

SYSTEM NAME:

e-Train Learning Management System-FTC.

CATEGORIES OF RECORDS IN THE SYSTEM:

Employee social security number, position title, pay plan, series, grade, organizational code, work address, work phone number, supervisor, date of birth, sex, race, work email address, course number, course title, course date and time, attendance indicator, separation date, etc.

PURPOSE(S):

To provide information to agency managers necessary to indicate the training that has been requested and provided to individual employees; to determine course offerings and frequency; and to manage the training program administered by the Human Resources Management Office. Since this system is legally part of the OPM’s Government-wide system of records notice for this system, OPM/GOVT-1, it is subject to the same purposes set forth for that system by OPM, see OPM/GOVT-1, or any successor OPM system notice that may be published for this system (visit (www.opm.gov) for more information).

ROUTINE USES OF RECORDS MAINTAINED IN THE SYSTEM, INCLUDING CATEGORIES OF USERS AND THE PURPOSES OF SUCH USES:

Since this system is legally part of the OPM’s Government-wide system of records notice for this system, OPM/GOVT-1, it is subject to the same routine uses set forth for that system by OPM, see OPM/GOVT-1, or any successor OPM system notice that may be published for this system (visit (www.opm.gov) for more information).

See also Appendix I for other ways that the Privacy Act permits the FTC to use or disclose system records outside the agency.

RETRIEVABILITY:

Indexed by employee social security number and name.

III. FTC Financial Systems of Records

FTC-III-2

SYSTEM NAME:

Travel Management System-FTC.

CATEGORIES OF RECORDS IN THE SYSTEM:

Names (as they appear on government-issued driver’s licenses or passports), dates of birth, sex, social security numbers, home and/or business phone numbers, home and/or business addresses, vendor ID or other unique 9-digit numbers, e-mail addresses, emergency contact information (names, addresses, and phone numbers), credit card information (personal and/or government-issued), and redress numbers. For traveling FTC employees or other individuals (e.g., witnesses) only, additional data may be maintained, such as passport numbers (for international travelers), frequent flyer or other rewards membership numbers, and trip-specific information (travel dates, flight numbers, destinations, accommodations, vehicle rental, miscellaneous expenses claimed).

Other types of records covered by this system are set out in the General Services Administration (GSA) Privacy Act system of records notice applicable to this system, GSA/GOVT-4, or any successor system notice for this system.

Willard K. Tom,
General Counsel.

[FR Doc. 2010-21318 Filed 8-26-10; 8:45 am]

BILLING CODE 6750-01-S